DEPARTMENT OF ENERGY

Federal Energy Regulatory Commission

[Docket No. ER01-833-000, et al.]

Pacific Gas and Electric Company, et al.; Electric Rate and Corporate Regulation Filings

August 21, 2002.

The following filings have been made with the Commission. The filings are listed in ascending order within each docket classification.

1. Pacific Gas and Electric Company

[Docket No. ER01-833-000]

Take notice that on August 19, 2002, Pacific Gas and Electric Company (PG&E) and the Modesto Irrigation District (Modesto) tendered for filing a Further Request for Deferral of Consideration of the unexecuted Wholesale Distribution Tariff (WDT) Service Agreement and Interconnection Agreement between Pacific Gas and Electric Company and Modesto Irrigation District filed in FERC Docket No. ER01-833-000 on December 29, 2000. PG&E and Modesto are finalizing the agreements for review and signature, and PG&E therefore is notifying the Commission that executed agreements will not be filed by August 26, 2002, the requested deferral date. PG&E requests that the Commission defer consideration of the proceedings filed in ER01-833-000 to August 26, 2003, 365 days beyond the last request for Deferral in order that the parties may finalize and execute the Agreements.

Copies of this filing have been served upon Modesto, the California Independent System Operator Corporation, and the California Public Utilities Commission.

Comment Date: September 9, 2002.

2. Duke Energy New Smyrna Beach Power Company Ltd., L.L.P.

[Docket No. ER02-2464-000]

Take notice that on August 19, 2002, Duke Energy New Smyrna Beach Power Company Ltd., L.L.P. tendered for filing a Notice of Cancellation pursuant to 18 CFR 35.15 (2001), in order to reflect the cancellation of its Market-Based Rate Tariff, designated as Rate Schedule FERC No. 1, and Transmission Capacity Reassignment Tariff, designated as Rate Schedule FERC No. 2, originally accepted for filing in Docket No. ER98-2624-000.

Comment Date: September 9, 2002.

3. Midwest Independent Transmission System Operator, Inc.

[Docket No. ER02-2473-000]

Take notice that on August 19, 2002, pursuant to section 205 of the Federal Power Act and section 35.12 of the Commission's regulations, 18 CFR 35.12 (2001), the Midwest Independent Transmission System Operator, Inc. (Midwest ISO) submitted for filing an Interconnection and Operating Agreement among the City of Perham, Minnesota, the Midwest ISO and Otter Tail Power Company.

A copy of this filing was sent to the City of Perham, Minnesota and Otter Tail Power Company.

Comment Date: September 9, 2002.

4. The Dayton Power and Light Company

[Docket No. ER02-2474-000]

Take notice that on August 19, 2002 The Dayton Power and Light Company (Dayton) submitted a service agreement establishing Calpine Energy Services L.P. as a customer under the terms of Dayton's FERC Electric Tariff, Original Volume No. 10.

Dayton requests an effective date of one day subsequent to this filing for the service agreements. Accordingly, Dayton requests waiver of the Commission's notice requirements. Copies of this filing were served upon Calpine Energy Services, L.P. and the Public Utilities Commission of Ohio.

Comment Date: September 9, 2002.

5. Pacific Gas and Electric Company

[Docket No. ER02-2475-000]

Take notice that on August 19, 2002, Pacific Gas and Electric Company (PG&E) tendered for filing proposed changes in rates for Sacramento Municipal Utility District (SMUD), to be effective July 1, 2002, developed using a rate adjustment mechanism previously agreed by PG&E and SMUD for First Revised PG&E Rate Schedule FERC Nos. 88, 91, and 136.

Copies of this filing have been served upon SMUD, the California Independent System Operator Corporation, and the California Public Utilities Commission.

Comment Date: September 9, 2002.

6. Chattahoochee EMC

[Docket No. ER02-2476-000]

Take notice that on August 19, 2002, Chattahoochee EMC tendered for filing an initial rate schedule pursuant to section 205 of the Federal Power Act and section 35.12 of the Commission's Regulations.

This filing consists of the Power Purchase Agreements, dated as of November 1, 2001, between Chattahoochee EMC and each of its 28 member distribution cooperatives (the Members) pursuant to which Chattahoochee EMC will sell power and/or energy to those Members. Chattahoochee EMC is seeking waivers of certain Commission requirements as part of this filing.

Copies of the filing were served upon Altamaha Electric Membership Corporation, Amicalola Electric Membership Corporation, Canoochee Electric Membership Corporation, Carroll Electric Membership Corporation, Central Georgia Electric Membership Corporation, Coastal Electric Membership Corporation, d/b/a Coastal Electric Cooperative, Coweta-Fayette Electric Membership Corporation, Excelsior Electric Membership Corporation, Flint Electric Membership Corporation, d/b/a Flint Energies, GreyStone Power Corporation, An Electric Membership Corporation, Habersham Electric Membership Corporation, Hart Electric Membership Corporation, Irwin Electric Membership Corporation, Jackson Electric Membership Corporation, Lamar Electric Membership Corporation, Little Ocmulgee Electric Membership Corporation, Middle Georgia Electric Membership Corporation, Mitchell Electric Membership Corporation, Ocmulgee Electric Membership Corporation, Oconee Electric Membership Corporation, Okefenoke Rural Electric Membership Corporation, Planters Electric Membership Corporation, Rayle Electric Membership Corporation, Sawnee Electric Membership Corporation, Slash Pine Electric Membership Corporation, Sumter Electric Membership Corporation, Tri-County Electric Membership Corporation, and Upson County Electric Membership Corporation.

Comment Date: September 9, 2002.

7. Southern Company Services, Inc.

[Docket No. ER02-2477-000]

Take notice that on August 19, 2002, Southern Company Services, Inc., acting on behalf of Alabama Power Company, Georgia Power Company, Gulf Power Company, Mississippi Power Company, and Savannah Electric and Power Company (collectively, Southern Companies), filed Revision No. 2 to the Agreement for Network Integration Transmission Service for Tennessee Valley Authority under Southern Companies' Open Access Transmission Tariff to Add a Delivery Point. Revision No. 2 provides that transmission service under the referenced service agreement (Service Agreement No. 160) under Southern Companies' Open Access Transmission Tariff (FERC Electric Tariff, Fourth Revised Volume No. 5) (Tariff) is to be provided at one (1) new delivery point, and it specifies the direct assignment facilities charge as well as the distribution facilities charge associated with the new delivery point.

Comment Date: September 9, 2002.

8. ISO New England

[Docket No. OA97-237-000]

Take notice that on August 16, 2002, ISO New England (the ISO) tendered for filing with the Federal Energy Regulatory Commission (Commission) a Market Report for Quarter 3.

Comment Date: September 6, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson,Jr.,
Deputy Secretary.

[FR Doc. 02-22023 Filed 8-28-02; 8:45 am]

BILLING CODE 6717-01-P